NATIONAL ARCHIVES AND RECORDS ADMINISTRATION

[NARA-2024-047]

Agency Information Collection Activities: Submission for OMB Review; Comment Request

AGENCY: National Archives and Records Administration (NARA).

ACTION: Notice.

SUMMARY: We have submitted a request to the Office of Management and Budget (OMB) for approval to continue to collect information from people who participate in the National Historical Publications and Records Commission (NHPRC) grant programs. Organizations requesting a grant from the NHPRC must submit certain information the NHPRC staff, reviewers, and the Commission use to determine if the applicant and proposed project are eligible for an NHPRC grant; if the request is recommended for approval, the prospective grantee provides additional information acknowledging the offer of the grant and regulatory requirements; and, grantees must respond to an accounting questionnaire designed to identify potential recipients with limited experience managing Federal funds and provide appropriate training or additional safeguards for Federal funds. We invite you to comment on the proposed information collections.

DATES: OMB must receive written comments on or before August 19, 2024.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gob or by telephone at 301.837.1694 with any requests for additional information.

SUPPLEMENTARY INFORMATION: Pursuant to the Paperwork Reduction Act of 1995 (Public Law 104-13), we invite the public and other Federal agencies to comment on proposed information collections. We published a notice of proposed collection for these information collections on May 13, 2024 (89 FR 41476) and we received no comments. We are therefore submitting the described information collections to OMB for approval.

If you have comments or suggestions, they should address one or more of the following points: (a) whether the proposed information collections are necessary for NARA to properly perform its functions; (b) our estimate of the burden of the proposed information collections and its accuracy; (c) ways we could enhance the quality, utility, and clarity of the information we collect; (d) ways we could minimize the burden on respondents of collecting the information, including through information technology; and (e) whether these collections affect small businesses.

In this notice, we solicit comments concerning the following information collections:

1. Title: National Historical Publications and Records Commission (NHPRC) Grant Program Budget Form and Instructions and NHPRC Grant Offer Acknowledgement.

OMB Number: 3095-0013.

Agency form number: NA Form 17001 and 17001a.

Type of review: Regular.

Affected public: Nonprofit organizations and institutions, state and local government agencies, and Federally-acknowledged or state-recognized Native American tribes or groups, who apply for and receive NHPRC grants for support of historical documentary editions, archival preservation and planning projects, and other records projects.

Estimated number of respondents: 244 per year submit applications; approximately 25 grantees need to submit revised budgets.

Estimated time per response: 10 hours per application; five hours per revised budget.

Frequency of response: On occasion for the application; as needed for revised budget. Currently, the NHPRC considers grant applications two times per year. Respondents usually submit no more than one application per year, and, for those who need to submit revised budgets, only one revised budget per year.

Estimated total annual burden hours: 1,765 hours.

Abstract: The NHPRC posts grant announcements to their website and to grants.gov (www.grants.gov), where the information will be specific to the grant opportunity named. The basic information collection remains the same. The NA Form 17001 is used by the NHPRC staff, reviewers, and the Commission to determine if the applicant and proposed project are eligible for an NHPRC grant, and whether the proposed project is methodologically sound and suitable for support. The NA Form 17001a, NHPRC Grant Offer Acknowledgement, is used after the Archivist of the United States, as chair of the Commission, recommends a grant for approval. The prospective grantee must acknowledge the offer of the grant and agree to meet the requirements of applicable Federal regulations. In addition, they must verify the existence of an indirect cost agreement with a cognizant Federal agency if they are claiming indirect costs in the project's budget.

2. Title: Accounting System and Financial Capability Questionnaire.

OMB number: 3095-0072.

Agency form numbers: NA Form 17003.

Type of review: Regular.

Affected public: Not-for-profit institutions and state, local, or tribal government.

Estimated number of respondents: 75.

Estimated time per response: 4 hours.

Frequency of response: On occasion.

Estimated total annual burden hours: 300.

Abstract: Pursuant to title 2, section 215 of the Code of Federal Regulations, Grants and Agreements with Institutions of Higher Education, Hospitals, and Other Non-Profit Organizations (formerly OMB Circular A-110), and OMB Circular A-133, Audits of States, Local Governments, and Non-Profit Organizations, grant recipients are required to maintain adequate accounting controls and systems in managing and administering Federal funds. Some of the recipients of grants from the NHPRC have proven to have limited experience with managing Federal funds. This questionnaire is designed to identify those potential recipients and provide appropriate training or additional safeguards for Federal funds. Additionally, the questionnaire serves as a pre-audit function in identifying potential deficiencies and minimizing the risk of fraud, waste, abuse, or mismanagement, which we use in lieu of a more costly and time consuming formal pre-award audit.

Sheena Burrell,
Executive for Information Services/CIO.

[FR Doc. 2024-15974 Filed 7-18-24; 8:45 am]

BILLING CODE 7515-01-P